DEPARTMENT OF JUSTICE

Drug Enforcement Administration

Randall M. Schaffer, D.D.S.; Revocation of Registration

On August 6, 1999, the Deputy Assistant Administrator, Office of Diversion Control, Drug Enforcement Administration (DEA), issued an Order to Show Cause (OTSC) by certified mail to Randall M. Schaffer, D.D.S., (Respondent) notifying him of an opportunity to show cause as to why the DEA should not revoke his DEA Certificate of Registrations, AS1641554 and BS3509289, and deny any applications for modification or renewal, pursuant to 21 U.S.C. 824(a)(4) and 823(f), for reason that Respondent's registration would be inconsistent with the public interest. Following prehearing procedures, a hearing was held on March 28 and 29, 2000, in New Orleans, Louisiana.

On October 4, 2000, Administrative Law Judge Mary Ellen Bittner (Judge Bittner) issued an Opinion and Recommended Ruling, Findings of Fact, Conclusions of Law, and Decision of Administrative Law Judge, recommending that Respondent's registration be continued with restrictions. By letter dated November 21, 2000, Judge Bittner transmitted the complete record to the Deputy Administrator for final decision in this matter.

On January 11, 2001, the Government filed a request for remand with the Deputy Administrator. On January 26, 2001, the Administrator of the DEA remanded the record to Judge Bittner for further proceedings, because “(b)y correspondence dated January 11, 2001, I was informed by counsel for the Government that new and previously unavailable evidence had recently been acquired by the Government, and that such evidence may affect the outcome of these proceedings.”

On February 16, 2001, counsel for the Government filed the Government's Motion to Reopen Record and Admission of Supplemental Evidence. On February 27, 2001, Respondent filed the Respondent's Response to the Government Motion.

By her Ruling on Motion and Order Rescinding Opinion and Recommended Ruling, Findings of Fact, Conclusions of Law and Decision of Administrative Law Judge dated March 27, 2001, Judge Bittner granted the Government's Motion and rescinded the Opinion and Recommended Ruling, Findings of Fact, Conclusions of Law and Decision of Administrative Law Judge issued October 4, 2000. In her Supplemental Opinion and Recommended Decision of the Administrative Law Judge dated March 27, 2001, Judge Bittner recommended that Respondent's DEA Certificate of Registrations be revoked and any pending applications for renewal be denied on the basis that Respondent lacks state authority to handle controlled substances.

The Deputy Administrator has considered the record in its entirety, and pursuant to 21 CFR 1316.67, hereby issues his final order based upon findings of fact and conclusions of law as hereinafter set forth. The Deputy Administrator adopts in full the Opinion and Recommended Decision of the Administrative Law Judge.

The additional evidence submitted by the Government consists of a Revised Decision of the Louisiana State Board of Dentistry (Board) dated September 20, 2000, ordering the revocation of the Respondent's license to practice dentistry in the State of Louisiana, and a letter from the Louisiana Department of Health and Hospitals to Respondent dated December 4, 2000, revoking Respondent's Louisiana Controlled Substance License.

The DEA does not have the statutory authority pursuant to the Controlled Substance Act to issue or to maintain a registration if the applicant or registrant is without state authority to handle controlled substances in the state in which he or she practices. See 21 U.S.C. 802(21), 823(f), and 824(a)(3). This prerequisite has been consistently upheld in prior DEA cases. See Graham Travers Schuler, M.D., 65 FR 50,570 (2000); Romeo J. Perez, M.D., 62 FR 16,193 (1997); Demetris A. Green, M.D., 61 FR 60,728 (1996); Dominick A. Ricci, M.D., 58 FR 51,104 (1993).

In the instant case, the Deputy Administrator finds the Government has presented evidence demonstrating that the Respondent is not authorized to practice dentistry in Louisiana, and furthermore, that Respondent's state authority to handle controlled substances has been revoked. Respondent does not deny that he is not currently authorized to handle controlled substances in the State of Louisiana. The Deputy Administrator finds that Judge Bittner allowed Respondent ample time to refute the Government's evidence, and that Respondent has submitted no evidence or assertions to the contrary. Respondent cites no authority for his assertion that revocation of his DEA Certificate of Registrations would be premature and a violation of due process.

According, the Deputy Administrator of the Drug Enforcement Administration, pursuant to the authority vested in him by 21 U.S.C. 823 and 824 and 28 CFR 0.100(b) and 0.104, hereby orders that the DEA Certificate of Registrations, AS1641554 and BS3509289, previously issued to Randall M. Schaffer, D.D.S., be, and it hereby is, revoked, and any pending applications for renewal or modification and said Certificate be, and hereby are, denied. This order is effective June 19, 2002.

Dated: May 6, 2002.
John B. Brown III,
Deputy Administrator.

[FR Doc. 02-12492 Filed 5-17-02; 8:45 am]

BILLING CODE 4410-09-M